FEDERAL COMMUNICATIONS COMMISSION

[CC Docket No. 92-237; DA 01-1551]

Next Meeting of the North American Numbering Council

AGENCY: Federal Communications Commission.

ACTION: Notice.

SUMMARY: On June 29, 2001, the Commission released a public notice announcing the July 17-18, 2001, meeting and agenda of the North American Numbering Council (NANC). The intended effect of this action is to make the public aware of the NANC's next meeting and its agenda.

FOR FURTHER INFORMATION CONTACT: Deborah Blue, Special Assistant to the Designated Federal Officer (DFO) at (202) 418-2320 or dblue@fcc.gov. The address is: Network Services Division, Common Carrier Bureau, Federal Communications Commission, The Portals II, 445 12th Street, SW, Suite 6A207, Washington, DC 20554. The fax number is: (202) 418-2345. The TTY number is: (202) 418-0484.

SUPPLEMENTARY INFORMATION: Released: June 29, 2001.

The North American Numbering Council (NANC) has scheduled a meeting to be held Tuesday, July 17, 2001, from 8:30 a.m. until 5:00 p.m., and on Wednesday, July 18, 2001, from 8:30 a.m., until 12:00 noon (if required). The meeting will be held at the Federal Communications Commission, Portals II, 445 12th Street, SW, Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda

1. Announcements and Recent News

2. Approve Minutes

—Meeting of June 18-19, 2001

3. Report of North American Numbering Plan Administrator (NANPA)

—Final exhaust projection assumptions

—Status of 500/900 NXX code assignments

—Further discussion re: “orphaned” number blocks

4. Presentation by National Thousands-Block Pooling Administrator

5. Report of NANPA Oversight Working Group

6. Report of Numbering Resource Optimization Working Group

—Complete NANP Exhaust Assumption 6 (impact of CMRS pooling)

7. Report of NANP Expansion/Optimization IMG

8. Status of Industry Numbering Committee activities

—Revised guidelines for reclaiming 555 numbers

9. Report of the Local Number Portability Administration (LNPA) Working Group

10. Report of NAPM LLC

11. Report from NBANC

12. Report of Cost Recovery Working Group

13. Steering Committee

—Table of NANC Projects

14. Report of Steering Committee

15. Action Items

16. Public Participation (5 minutes each)

17. Other Business

Adjourn (5:00 p.m.)

Wednesday, July 18 (If Required)

NANC will reconvene at 8:30 a.m. to complete any business not completed on July 17; adjournment will be no later than 12:00 Noon.

Next Meeting: September 11-12, 2001.

Federal Communications Commission.
Diane Griffin Harmon,
Acting Chief, Network Services Division, Common Carrier Bureau.

[FR Doc. 01-16797 Filed 7-3-01; 8:45 am]

BILLING CODE 6712-01-P